DEPARTMENT OF AGRICULTURE

Food and Nutrition Service

Agency Information Collection Activities: Food Security Status and Well-Being of Nutrition Assistance Program (NAP) Participants in Puerto Rico

AGENCY: Food and Nutrition Service (FNS), USDA.

ACTION: Notice.

SUMMARY: In accordance with the Paperwork Reduction Act of 1995, this notice invites the general public and other public agencies to comment on this proposed information collection for the Food Security Status and Well-Being of Nutrition Assistance Program (NAP) Participants in Puerto Rico study. This is a new information collection request. This study informs the U.S. Department of Agriculture's (USDA) Food and Nutrition Service (FNS) about household food security, health, and well-being among Puerto Rico's population.

DATES: Written comments must be received on or before September 27, 2021.

ADDRESSES: Comments may be sent to Kristen Corey, Food and Nutrition Service, U.S. Department of Agriculture, 1320 Braddock Place, Alexandria, VA 22314. Comments may also be submitted via email at kristen.corey@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Kristen Corey at (703) 305-2517.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Food Security Status and Well-Being of Nutrition Assistance Program (NAP) Participants in Puerto Rico.

Form Number: Not Applicable.

OMB Number: 0584-NEW.

Expiration Date: Not Yet Determined.

Type of Request: New Information Collection Request.

Abstract: Following Hurricane Maria, Congress appropriated additional disaster relief funds provided by section 309 of Public Law 115-72 that were distributed through the Nutrition Assistance Program (NAP) to program participants in Puerto Rico. Under H.R. 2157, section 105, funds were appropriated for the Secretary of Agriculture to conduct an independent study, including a survey of NAP participants, to examine the food security, health status, and well-being of NAP participants and low-income residents in Puerto Rico.

FNS is conducting this study to establish baseline estimates of household food security status in Puerto Rico. FNS has identified five objectives for this study:

1. Produce descriptive statistics on key sociodemographic and economic variables, including household food security, in a representative sample of Puerto Rico households.

2. Produce descriptive statistics on key sociodemographic and economic variables, including household food insecurity, in multiple representative subsamples in Puerto Rico stratified according to the following classifications: NAP participants and low-income nonparticipants, adults aged 60 and older, disability status, employment status, and educational level.

3. Produce descriptive statistics for each subsample in Puerto Rico on key social, geospatial, and other policy-relevant elements of health and well-being associated with household food security.

4. Characterize the social context of food insecurity through in-depth interviews with individuals within the NAP participant and low-income nonparticipant subgroups. Each interview will ask the individual to consider the household or family, community and Federal food assistance, and disaster relief contexts.

5. Develop a detailed concept/problem map of the systemic factors that shape the implementation of the NAP program, particularly as a disaster relief tool. The concept mapping process will include data collection from key informants with knowledge of one or more of the stages of the Puerto Rican food and nutrition system: production, processing, distribution, acquisition, preparation, consumption, digestion, transport, and metabolism.

To address these objectives, the study will employ a mixed-methods approach with three data collection components:

1. Household survey to measure and describe food security status among Puerto Rico residents and multiple representative subsamples; for each subsample, the survey will assess elements of health and well-being associated with household food security status in Puerto Rico.

2. In-depth interviews with NAP participants and low-income nonparticipants to gain a deeper understanding of factors that affect their food security status, particularly following natural disasters.

3. Development of a concept map of Puerto Rico's food system to identify policies that influence the delivery and effectiveness of NAP and gaps in knowledge of how NAP protects against low food security, particularly when natural disasters strike.

The household survey will use a dual-frame approach to identify a representative sample and collect data on food security and well-being among Puerto Rico's population. To build the household sample frames, the study team will use an administrative list of NAP participants provided by Administración de Desarollo Socioeconómico de la Familia (ADSEF), the agency that administers NAP, and an area probability sample using address-based sampling. The key subgroups of interest are NAP participants and low-income nonparticipants; households with children; households with at least one person aged 60 and older; and households with at least one person with a disability. Prior to administration, the survey instrument will be pretested with 8 Puerto Rico residents representing the subgroups of interest.

The study sample for the in-depth interviews will be drawn from survey respondents who agree to be contacted for an interview. In-depth interviews will be conducted with NAP participants and low-income nonparticipants. The study team will use survey responses to select an approximately equal number of households with and without children and an approximately equal number of households that are food secure, experiencing low food security, or experiencing very low food security. If too few survey respondents agree to be contacted for an in-depth interview, the study team will work with local organizations to recruit members of the target population to participate in interviews. The in-depth interviews will examine the social context of food security and the ways in which difficult life experiences, such as natural disasters, and positive experiences, such as community engagement, influence households' ability to cope with adverse life events. Prior to administration, the interview protocol will be pretested with 8 Puerto Rico residents representing the subgroups of interest.

The concept-mapping component will engage stakeholders who are knowledgeable about policies that affect food security in Puerto Rico and represent the primary interest groups engaged in food security issues. Stakeholders will include representatives from human service providers, public agencies, advocacy organizations, private businesses, and academia. The study team will convene five to six stakeholder groups with five to seven members each. Data collection will involve four stages, including two 1-hour virtual meetings with the stakeholder groups: (1) A first set of meetings with stakeholders to brainstorm initial policy and research recommendations, (2) prioritization and sorting of the recommendations, (3) a second set of meetings with stakeholders to gather qualitative feedback on the prioritized recommendations, and (4) feedback from the technical working group and FNS on the draft recommendations.

Data collected in all three components will be kept private; it will not be shared with anyone outside the study team and FNS research and administrative staff.

Affected Public: (1) Puerto Rican government; (2) business and nonprofit organizations; and (3) individuals

Respondent groups identified include the following:

1. Puerto Rican government: Staff from public agencies, such as human services, education, and healthcare agencies.

2. Business and nonprofit organizations: Staff from private businesses, such as agribusiness and food retailers; academia, such as nutritionists, economists, and political scientists; advocacy organizations, such as neighborhood associations, civic groups, and the faith community; human service providers, such as food banks, workforce development organizations, and community action agencies.

3. Individuals: Residents of Puerto Rico, including NAP participants and low-income nonparticipants.

Estimated Number of Respondents: The total estimated number of respondents is 12,497 (18 Puerto Rican government staff; 36 business and nonprofit stakeholder staff; and 12,443 individuals). Of the 12,497 contacted, 3,745 are estimated to be responsive, and 8,752 are estimated to be nonresponsive. The breakout of respondents follows:

1. Puerto Rican government staff: Of the 18 concept mapping respondents from Puerto Rican government agencies contacted, 14 are estimated to be responsive and 4 will be nonresponsive.

2. Business and nonprofit organization stakeholder staff: Of the 36 business and nonprofit staff contacted to participate in concept mapping, 28 are estimated to be responsive and 8 will be nonresponsive.

3. Individuals: Of the 12,280 individuals contacted to participate in the survey, 3,656 are estimated to be responsive and 8,624 will be nonresponsive. Of the nine individuals contacted to participate in the pretest of the survey instrument, nine will be responsive. Of the 865 individuals contacted to participate in an in-depth interview, 144 will be responsive and 721 will be nonresponsive. Of the nine individuals contacted to participate in the pretest of the interview guide, nine will be responsive.

Estimated Frequency of Responses per Respondent: 2.80487252—based on 35,052 total annual responses (7,960 responsive and 27,092 nonresponsive) made by the 12,497 respondents (3,745 responsive and 8,752 nonresponsive). See table 1 for the estimated number of responses per respondent for each type of respondent.

The breakout follows:

1. Puerto Rican government staff (18): The estimated number of responses per Puerto Rican government staff is 4.89: Of 18 government staff, 14 will respond to the concept mapping recruitment email. The same 14 staff will read advance materials for the first meeting, participate in the first virtual meeting, prioritize and sort results, read advance materials for the second meeting, and participate in the second virtual meeting.

2. Business and nonprofit stakeholder staff (36): The estimated number of responses per business or nonprofit stakeholder staff is 4.89:

• Of 18 business or other for-profit stakeholder staff, 14 will respond to the concept mapping recruitment email. The same 14 staff will read advance materials for the first meeting, participate in the first virtual meeting, prioritize and sort results, read advance materials for the second meeting, and participate in the second virtual meeting.

• Of 18 nonprofit stakeholder staff, 14 will respond to the concept mapping recruitment email. The same 14 staff will read advance materials for the first meeting, participate in the first virtual meeting, prioritize and sort results, read advance materials for the second meeting, and participate in the second virtual meeting.

4. Individuals (12,443). The estimated number of responses per individual is 2.79582833:

• A total of 18 individuals will be invited to participate in instrument pretesting of the survey instrument and interview protocol.

○ A total of nine individuals will be invited to participate pretesting of the survey instrument and all of them will complete the pretest.

○ A total of nine individuals will be invited to participate pretesting of the interview protocol and all of them will complete the pretest.

• Of 3,170 NAP participant respondents, 923 respondents will complete the survey, and 2,247 respondents will not complete the survey.

○ A total of 380 NAP participants will read the first survey invitation letter and 2,790 will not read the letter. A total of 84 NAP participants will read the survey reminder postcard and 3,086 will not read the postcard. A total of 244 NAP participants will read the second survey invitation letter and 2,462 will not. A total of 149 NAP participants will read the third survey invitation letter and 2,313 will not. A total of 15 NAP participants will call to schedule a telephone-administered survey. A total of 51 NAP participants will schedule a telephone-administered survey when they are called and 615 will not.

• Of 9,110 area probability sample respondents, 2,733 respondents will complete the survey and 6,377 respondents will not complete the survey.

○ A total of 2,642 will read the survey invitation package and 6,468 will not read it. A total of 91 respondents will call to take the survey via telephone interview and all of them will receive a return scheduling call.

• Of 360 NAP survey participants called to participate in an in-depth interview, 58 will participate in an in-depth interview and 302 will not participate.

• Of 145 respondents recruited through local organizations called to participate in an in-depth interview, 29 will participate in an in-depth interview and 116 will not participate.

• Of 360 area probability sample survey respondents called to participate in an in-depth interview, 57 will participate in an in-depth interview and 303 will not participate.

Estimated Total Annual Responses: 35,052 (7,960 annual responses for responsive participants and 27,092 annual responses for nonresponsive participants).

Estimated Time per Response: 0.10706233 hours (0.4145 hours for responsive participants and 0.0167 hours for nonresponsive participants). The estimated time of response varies from 0.0167 hours to 1.00 hours, depending on respondent group and activity, as shown in table 1. The estimated time per response is calculated by dividing the 3,752.8 estimated total hours for responses by the 35,052 total estimated responses. The estimated average time per response is 0.4145 for respondents and 0.0167 for non-respondents.

Estimated Total Annual Burden on Respondents and Nonrespondents: 3,752.8016 hours (3,299.36 hours for responsive participants and 453.44 hours for nonresponsive participants). See table 1 for estimated total annual burden for each type of respondent.

BILLING CODE 3410-30-P

Timothy English,
Acting Administrator, Food and Nutrition Service.

[FR Doc. 2021-15916 Filed 7-27-21; 8:45 am]

BILLING CODE 3410-30-C